DEPARTMENT OF TRANSPORTATION

Federal Aviation Administration

14 CFR Part 71

[Docket No. FAA-2014-0305; Airspace Docket No. 14-AWP-2]

Establishment and Amendment of Class D and E Airspace; Santa Rosa, CA

AGENCY: Federal Aviation Administration (FAA), DOT.

ACTION: Final rule.

SUMMARY: This action establishes Class E airspace and modifies Class D and E airspace at Charles M. Schulz-Sonoma County Airport, Santa Rosa, CA. This action, initiated by the FAAs biennial review of the airspace area, enhances the safety and management of instrument flight rules (IFR) operations at the airport. Class D and E airspace is amended to reflect the airport's name change. Also, a minor adjustment is made to the geographic coordinates of the airport.

DATES: Effective date, 0901 UTC, January 8, 2015. The Director of the Federal Register approves this incorporation by reference action under 1 CFR Part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: 202-267-8783.

FOR FURTHER INFORMATION CONTACT: Richard Roberts, Federal Aviation Administration, Operations Support Group, Western Service Center, 1601 Lind Avenue SW., Renton, WA 98057; telephone (425) 203-4517.

SUPPLEMENTARY INFORMATION:

History

On July 15, 2014 the FAA published in the Federal Register a notice of proposed rulemaking (NPRM) to amend controlled airspace at Charles M. Shulz-Sonoma County Airport, Santa Rosa, CA (79 FR 41148). Interested parties were invited to participate in this rulemaking effort by submitting written comments on the proposal to the FAA. No comments were received. Subsequent to publication, the FAA found an adjustment to the geographic coordinates of the airport was needed. Except for editorial changes, and the changes noted above, this rule is the same as that published in the NPRM.

Class D airspace and Class E airspace designations are published in paragraphs 5000, 6004 and 6005, respectively, of FAA Order 7400.9Y, dated August 6, 2014, and effective September 15, 2014, which is incorporated by reference in 14 CFR 71.1. The Class D and E airspace designations listed in this document will be published subsequently in that Order.

The Rule

This action amends Title 14 Code of Federal Regulations (14 CFR) Part 71 by establishing Class E airspace designated as an extension to the Class D and E surface area with a segment extending 14 miles northwest from the 4.3-mile radius of Charles M. Schulz-Sonoma County Airport, Santa Rosa, CA. Class E airspace extending upward from 700 feet above the surface is modified with segments extending 23 miles northwest, 28 miles southeast, and 13 miles southwest of the airport, and adds the airport name and geographic coordinates missing in the airspace designation. A biennial review of the airspace found these modifications necessary for the safety and management of IFR operations at the airport. The description for the Class D airspace reflects the airport name change from Santa Rosa/Sonoma County Airport to Charles M. Schulz-Sonoma County Airport. The geographic coordinates of the airport are updated to coincide with the FAA's aeronautical database.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Charles M. Schulz-Sonoma County Airport, Santa Rosa, CA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist, that warrant preparation of an environmental assessment.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E. O. 10854, 24 FR 9565, 3 CFR, 1959-1963 Comp., p. 389.

§ 71.1 [Amended]

2. The incorporation by reference in 14 CFR Part 71.1 of the Federal Aviation Administration Order 7400.9Y, Airspace Designations and Reporting Points, dated August 6, 2014, and effective September 15, 2014 is amended as follows:

Paragraph 5000 Class D airspace.

* * * * *

AWP CA D Santa Rosa, CA [Amended]

Charles M. Schulz-Sonoma County Airport, CA

(Lat. 38°30′32″ N., long. 122°48′46″ W.)

That airspace extending upward from the surface to and including 2,600 feet MSL within a 4.3-mile radius of Santa Rosa/Charles M. Schulz-Sonoma County Airport. This Class D airspace area is effective during the specific dates and times established in advance by a Notice to Airmen. The effective date and time will thereafter be continuously published in the Airport/Facility Directory.

Paragraph 6004 Class E airspace areas designated as an extension to Class D or Class E surface area.

* * * * *

AWP CA E4 Santa Rosa, CA [New]

Charles M. Schulz-Sonoma County Airport, CA

(Lat. 38°30′32″ N., long. 122°48′46″ W.)

That airspace extending upward from the surface within 2 miles either side of the 342° bearing from the Charles M. Schulz-Sonoma County Airport, CA, extending from the 4.3 mile radius of the airport to 14 miles northwest of the airport.

Paragraph 6005 Class E airspace areas extending upward from 700 feet or more above the surface of the earth.

* * * * *

AWP CA E5 Santa Rosa, CA [Amended]

Charles M. Schulz-Sonoma County Airport, CA

(Lat. 38°30′32″ N., long. 122°48′46″ W.)

That airspace extending upward from 700 feet above the surface bounded by a line beginning at lat. 38°53′25″ N., long. 122°52′34″ W.; to lat. 38°37′07″ N., long. 122°46′02.00″ W.; to 38°22′08″ N., long. 122°38′28″ W.; lat. 38°06′41″ N., long. 122°29′59″ W.; lat. 38°02′10″ N., long. 122°44′09″ W.; lat. 38°17′57″ N., long. 122°54′37″ W.; lat. 38°22′58″ N., long. 123°02′34″ W.; lat. 38°29′12″ N., long. 122°56′32″ W.; lat. 38°33′48″ N., long. 123°00′47″ W.; lat. 38°50′14″ N., long. 123°07′20″ W. thence to the point of origin; that airspace extending upward from 1,200 feet above the surface bounded by a line beginning at lat. 45°49′00″ N., long. 118°00′00″ W.; to lat. 45°49′00″ N., long. 119°45′00″ W.; to lat. 47°00′00″ N., long. 119°45′00″ W.; to lat. 47°00′00″ N., long. 118°00′00″ W.; thence to the point of origin.

Issued in Seattle, Washington, on October 27, 2014.
Clark Desing,
Manager, Operations Support Group, Western Service Center.

[FR Doc. 2014-26283 Filed 11-5-14; 8:45 am]

BILLING CODE 4910-13-P